DEPARTMENT OF TRANSPORTATION

Federal Aviation Administration

14 CFR Part 71

[Docket No. FAA-2003-15454; Airspace Docket No. 03-ACE-52]

Modification of Class E Airspace; Wichita Mid-Continent Airport, KS

AGENCY: Federal Aviation Administration (FAA), DOT.

ACTION: Direct final rule; request for comments.

SUMMARY: This amendment to Title 14 Code of Federal Regulations, part 71 (14 CFR part 71) modifies the Wichita Mid-Continent Airport, KS Class E airspace area. The FAA has developed an Area Navigation (RNAV) Global Positioning System (GPS) Standard Instrument Approach Procedure (SIAP) and an amended VHF Omni-directional Range (VOR) SIAP to serve Cessna Aircraft Field, Wichita, KS. The Wichita Mid-Continent Airport, KS Class E airspace area encompasses that Class E airspace designed to protect aircraft executing SIAPs into Cessna Aircraft Field. This action modifies the Wichita Mid-Continent Airport, KS Class E airspace area to the appropriate dimensions for protecting aircraft executing these newly developed instrument approach procedures. An examination of controlled airspace for Wichita Mid-Continent Airport, KS has revealed several discrepancies in the Wichita Mid-Continent Airport, KS Class E airspace area. This action corrects the discrepancies by modifying the airspace area and its legal description.

EFFECTIVE DATE: This direct final rule is effective on 0901 UTC, October 30, 2003. Comments for inclusion in the rules Docket must be received on or before August 20, 2003.

ADDRESSES: Send comments on this proposal to the Docket Management System, U.S. Department of Transportation, Room Plaza 401, 400 Seventh Street, SW., Washington, DC 20590-0001. You must identify the docket number FAA-2003-15454/Airspace Docket No. 03-ACE-52, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION: The FAA has developed RNAV (GPS)—D ORIGINAL SIAP and VOR—C AMENDMENT 1 SIAP to serve Cessna Aircraft Field, Wichita, KS. The Wichita Mid-Continent Airport, KS Class E airspace area encompasses that Class E airspace designed to protect aircraft executing SIAPs into Cessna Aircraft Field. This action modifies the Wichita Mid-Continent Airport, KS Class E airspace area to the appropriate dimension for protecting aircraft executing these newly developed/amended instrument approach procedures. As a result, Cessna Aircraft Field airport reference is no longer required in the Wichita Mid-Continent Airport, KS Class E airspace legal description. An examination of controlled airspace for Wichita Mid-Continent Airport, KS Class E airspace area. The locations of Wichita Mid-Continent Localizer Runway 1L, Wichita McConnell Air Force Base (AFB) Localizer Runway 1L and AUBRA Waypoint, all of which are used in the legal description of this airspace area, have been redefined. Portions of the airspace area description in the vicinity of McConnell AFB were omitted in the previous publication. This action corrects the discrepancies by modifying the airspace area and its legal description. This amendment to 24 CFR 71 modifies the Class E airspace area extending upward from 700 feet above the surface of the earth at Wichita Mid-Continent Airport, KS. It also brings the legal descriptions of this airspace area into compliance with FAA Order 7400.2E, Procedures for handling Airspace Matters. The area will be depicted on appropriate aeronautical charts. Class E airspace area extending upward from 700 feet or more above the surface of the earth are published in paragraph 6005 of FAA Order 7400.9K, dated August 30, 2002, and effective September 16, 2002, which is incorporated by reference in 14 CFR 71.1. The Class E airspace designation listed in this document will be published subsequently in the Order.

The Direct Final Rule Procedure

The FAA anticipates that this regulation will not result in adverse or negative comment and, therefore, is issuing it as a direct final rule. Previous actions of this nature have not been controversial and have not resulted in adverse comments or objections. Unless a written adverse or negative comment, or a written notice of intent to submit an adverse or negative comment is received within the comment period, the regulation will become effective on the date specified above. After the close of the comment period, the FAA will publish a document in the Federal Register indicating that no adverse or negative comments were received and confirming the date on which the final rule will become effective. If the FAA does receive, within the comment period, an adverse or negative comment, or written notice of intent to submit such a comment, a document withdrawing the direct final rule will be published in the Federal Register, and a notice of proposed rulemaking may be published with a new comment period.

Comments Invited

Interested parties are invited to participate in this rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2003-15454/Airspace Docket No. 03-ACE-52.” The postcard will be date/time stamped and returned to the commenter.

Agency Findings

The regulations adopted herein will not have a substantial direct effect on the States, on the relationship between the national Government and the States, or on the distribution of power and responsibilities among the various levels of government. Therefore, it is determined that this final rule does not have federalism implications under Executive Order 13132.

The FAA has determined that this regulation is noncontroversial and unlikely to result in adverse or negative comments. For the reasons discussed in the preamble, I certify this regulation (1) is not a “significant regulatory action” under Executive Order 12866; (2) is not a “significant rule” under Department of transportation (DOT) Regulatory Policies and Procedures (44 FR 11034, February 26, 1979); and (3) if promulgated will not have a significant economic impact, positive or negative, on a substantial number of small entities under the criteria of the Regulatory Flexibility Act.

List of Subjects in 14 CFR Part 71

Airspace, Incorporation by reference, Navigation (air).

Adoption of the Amendment

Accordingly, the Federal Aviation Administration amends 14 CFR part 71 as follows:

PART 71—DESIGNATION OF CLASS A, CLASS B, CLASS C, CLASS D, AND CLASS E AIRSPACE AREAS; AIRWAYS; ROUTES AND REPORTING POINTS

1. The authority citation for part 71 continues to read as follows:

Authority: U.S.C. 106(g), 40103, 40113, 40120; E.O. 10854, 24 FR 9565, 3CFR 1959-1963 Comp., p. 389.

§ 71.1 [Amended]

2. The incorporation by reference in 14 CFR 71.1 of Federal Aviation Administration Order 7400.9K, dated August 20, 2002, and effective September 16, 1002, is amended as follows:

Paragraph 6005 Class E airspace areas extending upward from 700 feet or more above the surface of the earth.

* * * * *

ACE KS E5 Wichita Mid-Continent Airport, KS.

Wichita Mid-Continent Airport, KS,

(Lat. 37°39′00″ N., long. 97°25′59″ W.)

Wichita Mid-Continent Localizer Runway 1L,

(Lat. 37°39′51″ N., long. 97°25′57″ W.)

Wichita McConnell Air Force Base, KS,

(Lat. 37°37′33″ N., long. 97°16′03″ W.)

Wichita McConnell Air Force Base Localizer Runway 1L,

(Lat. 37°38′32″ N., Long. 97°15′50″ W.)

Wichita Colonel James Jabara Airport, KS,

(Lat. 37°44′51″., long. 97°13′16″ W.)

Augusta Municipal Airport, KS,

(Lat. 37°40′18″ long. 97°04′40″ W.)

AUBRA Waypoint,

(Lat. 37°55′14″ N., long. 97°11′13″ W.)

The airspace extending upward from 700 feet above the surface within a 7.2-mile radius of Wichita Mid-Continent Airport and within 4 miles west east of the Mid-Continent Airport ILS localizer course to runway 1L extending from the airport to 13 miles south of the airport and to 7.4 miles north of the airport and within a 7.0 mile radius of the McConnell Air force Base (AFB) and within 1.8 miles each side of the McConnell AFB ILS runway 1L localizer course extending from the AFB to 11.2 miles south of the AFB and within a 6.4-mile radius of the Augusta Municipal Airport and within a 6.5 mile radius of the Colonel James Jabrar Airport and within 1.8 miles each side of a lone extending from the Colonel James Jabara Airport to the AUGRA Waypoint extending from the 6.5-mile radius to 7 miles north of the airport.

* * * * *

Issued in Kansas City, MO, on June 30, 2003.
Herman J. Lyons, Jr.,
Manager, Air Traffic Davison, Central Region.

[FR Doc. 03-17766 Filed 7-14-03; 8:45 am]

BILLING CODE 4910-13-M